INTERNATIONAL TRADE COMMISSION

[Investigation No. 731-TA-932 (Review)]

Folding Metal Tables and Chairs From China; Termination of Five-Year Review

AGENCY: United States International Trade Commission.

ACTION: Notice.

SUMMARY: The subject five-year review was initiated in October 2012 to determine whether revocation of the antidumping duty order on folding metal tables and chairs from China would be likely to lead to continuation or recurrence of material injury. On November 29, 2012, the Department of Commerce published notice that it was revoking the order effective October 21, 2012, “{b}ecause the domestic interested parties did not participate in this sunset review * * *” (77 FR 71168, November 29, 2012). Accordingly, pursuant to section 751(c) of the Tariff Act of 1930 (19 U.S.C. § 1675(c)), the subject review is terminated.

DATES: Effective Date: Date of Commission Action Jacket Approval.

FOR FURTHER INFORMATION CONTACT: Mary Messer (202-205-3193), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (http://www.usitc.gov).

Authority: This review is being terminated under authority of title VII of the Tariff Act of 1930; this notice is published pursuant to section 207.69 of the Commission's rules (19 CFR 207.69).

By order of the Commission.
Issued: December 3, 2012.
Lisa R. Barton,
Acting Secretary to the Commission.

[FR Doc. 2012-29493 Filed 12-5-12; 8:45 am]

BILLING CODE 7020-02-P